FEDERAL COMMUNICATIONS COMMISSION

[CC Docket No. 92-237; DA 00-500]

Next Meeting of the North American Numbering Council

AGENCY: Federal Communications Commission.

ACTION: Notice.

SUMMARY: On March 3, 2000, the Commission released a public notice announcing the March 21 and 22, 2000, meeting and agenda of the North American Numbering Council (NANC). The intended effect of this action is to make the public aware of the NANC's next meeting and its agenda.

FOR FURTHER INFORMATION CONTACT: Jeannie Grimes at (202) 418-2320 or jgrimes@fcc.gov. The address is: Network Services Division, Common Carrier Bureau, Federal Communications Commission, The Portals, 445 Twelfth Street, SW, Suite 6A320, Washington, DC 20554. The fax number is: (202) 418-2345. The TTY number is: (202) 418-0484.

SUPPLEMENTARY INFORMATION: Released: March 3, 2000.

The next meeting of the North American Numbering Council (NANC) will be held on Tuesday, March 21, 2000, from 8:30 a.m., until 5:00 p.m., and on Wednesday, March 22, 2000, from 8:30 a.m., until 12 noon. The meeting will be held at the Federal Communications Commission, Portals II, 445 Twelfth Street, SW, Room TW-C305, Washington, DC 20554.

This meeting is open to the members of the general public. The FCC will attempt to accommodate as many participants as possible. The public may submit written statements to the NANC, which must be received two business days before the meeting. In addition, oral statements at the meeting by parties or entities not represented on the NANC will be permitted to the extent time permits. Such statements will be limited to five minutes in length by any one party or entity, and requests to make an oral statement must be received two business days before the meeting. Requests to make an oral statement or provide written comments to the NANC should be sent to Jeannie Grimes at the address under FOR FURTHER INFORMATION CONTACT stated above.

Proposed Agenda

Tuesday, March 21, 2000

1. Approval of February 22-23, meeting minutes.

2. North American Numbering Plan Administration (NANPA) Report. Central Office (CO) Code assignment activity update.

3. North American Numbering Plan Administration (NANPA) Oversight Working Group Report. Status update on 1999 NANPA performance review. Review of NANPA intellectual and physical property rights issues and recommendation by the Legal Expertise Working Group.

4. Numbering Resource Optimization (NRO) Working Group Report. Update on State number pooling trials, and development of the Central Office Code Utilization Survey (COCUS) Hybrid requirements.

5. Local Number Portability Administration (LNPA) Working Group Report. Updates on Wireless Wireline Integration; Problem Identification Management (PIM); NPAC/SMS release status, and Slow Horse.

6. Cost Recovery Working Group Report.

7. Industry Numbering Committee (INC) Report.

8. Assumptions Issue Management Group Update.

9. Limited Liability Corporations (LLCs) and Number Portability Administration Centers (NPAC) activity update.

10. North American Numbering Plan Administration Billing and Collection Agent (NBANC) Report.

Wednesday, March 22, 2000

11. Steering Group Report.

12. Number Pooling Issue Management Group (IMG) Report. Pooling administrator status.

13. Discussion regarding possible creation of new Issue Management Groups to address Unified Messaging, and Rate Center Consolidation in the context of geographic splits.

14. Other Business.

15. Action Items and Decisions Reached.

Federal Communications Commission.
Gregory M. Cooke,
Assistant Chief, Network Services Division, Common Carrier Bureau.

[FR Doc. 00-5603 Filed 3-6-00; 8:45 am]

BILLING CODE 6712-01-P